DEPARTMENT OF ENERGY

Federal Energy Regulatory Commission

[Docket No. CP20-48-000]

Iroquois Gas Transmission System, L.P.; Notice of Availability of The Final Environmental Impact Statement for The Proposed Enhancement by Compression Project

The staff of the Federal Energy Regulatory Commission (FERC or Commission) has prepared a final environmental impact statement (EIS) for the Enhancement by Compression Project (Project), proposed by Iroquois Gas Transmission System, L.P. (Iroquois) in the above-referenced docket. Iroquois requests authorization to construct and operate natural gas transmission facilities in New York and Connecticut. The Project is designed to provide a total of 125,000 dekatherms per day of incremental firm transportation service for two existing customers of Iroquois, Consolidated Edison Company of New York, Inc. and KeySpan Gas East Corporation doing business as National Grid.

The final EIS assesses the potential environmental effects of the construction and operation of the Project in accordance with the requirements of the National Environmental Policy Act. The final EIS is not a decision document. It presents Commission staff's independent analysis of the environmental issues for the Commission to consider when addressing the merits of all issues in this proceeding.

The final EIS responds to comments that were received on the Commission's September 30, 2020 Environmental Assessment (EA) and June 11, 2021 draft EIS ¹ and discloses downstream greenhouse gas emissions for the Project. With the exception of climate change impacts, FERC staff concludes that approval of the proposed Project, with the mitigation measures recommended in this EIS, would not result in significant environmental impacts. FERC staff continues to be unable to determine significance with regards to climate change impacts.

¹ The Project's Environmental Assessment is available on eLibrary under accession no. 20200930-3011 and the draft EIS is available under accession no. 20210611-3022.

The final EIS incorporates the above-referenced EA, which addressed the potential environmental effects of the construction and operation of the following Project facilities:

• Athens Compressor Station—installation of one new 12,000 horsepower (hp) natural gas-fired turbine (Unit A2) in a new building with associated cooling, filter separators, and other facilities connecting to Iroquois' existing 24-inch-diameter mainline within the existing fenced compressor station boundary (Greene County, New York).

• Dover Compressor Station—installation of one new 12,000 hp natural gas-fired turbine (Unit A2) in a new building with associated cooling, filter separators, and other facilities connecting to Iroquois' existing 24-inch-diameter mainline and expansion of the existing compressor station fenceline within the property boundary (Dutchess County, New York).

• Brookfield Compressor Station—construction of a control/office building, addition of two new 12,000 hp, natural gas-fired turbines (Unit B1 and Unit B2) in a new building with associated cooling, filter separators, and other typical facilities connecting to Iroquois' existing 24-inch-diameter mainline. Additionally, Iroquois would install incremental cooling at Plant 2-A to allow for compressed discharge gas to be cooled, prior to being compressed at the proposed downstream compressors (Units B1 and B2). Iroquois would also replace existing turbine stacks on the existing compressor units (Unit-A1 and Unit-A2) and add other noise reduction measures (e.g., louvers, seals) to minimize existing noise at the site. Modifications at this site would require expansion of the existing compressor station fenceline within the property boundary (Fairfield County, Connecticut).

• Milford Compressor Station—addition of gas cooling to existing compressor units and associated piping to allow for compressed discharge gas to be cooled within the current fenced boundaries of the existing compressor station, where no gas cooling facilities currently exist (New Haven County, Connecticut).

The Commission mailed a copy of the Notice of Availability of the Final Environmental Impact Statement for the Proposed Enhancement by Compression Project to federal, state, and local government representatives and agencies; elected officials; environmental and public interest groups; Native American Tribes; potentially affected landowners and other interested individuals and groups; and newspapers and libraries in the Project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search) select “General Search” and enter the docket number in the “Docket Number” field (i.e., CP20-48-000). Be sure you have selected an appropriate date range. For assistance, please contact FERC Online Support at FercOnlineSupport@ferc.gov or toll free at (866) 208-3676, or for TTY, contact (202) 502-8659.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: November 12, 2021.
Kimberly D. Bose,
Secretary.

[FR Doc. 2021-25179 Filed 11-17-21; 8:45 am]

BILLING CODE 6717-01-P